DEPARTMENT OF ENERGY

Federal Energy Regulatory Commission

Combined Notice of Filings

Take notice that the Commission has received the following Natural Gas Pipeline Rate and Refund Report filings:

Filings Instituting Proceedings

Docket Numbers: RP15-272-000.

Applicants: Petal Gas Storage, L.L.C.

Description: Tariff Cancellation per 154.602: Filing to Cancel Tariff and Tariff ID Number to be effective 1/1/2015.

Filed Date: 12/22/14.

Accession Number: 20141222-5061.

Comments Due: 5 p.m. ET 1/5/15.

Docket Numbers: RP15-273-000.

Applicants: Dominion Transmission, Inc.

Description: § 4(d) rate filing per 154.204: DTI—December 22, 2014 Negotiated Rate Agreements to be effective 1/1/2015.

Filed Date: 12/22/14.

Accession Number: 20141222-5067.

Comments Due: 5 p.m. ET 1/5/15.

Docket Numbers: RP15-274-000.

Applicants: ANR Pipeline Company.

Description: § 4(d) rate filing per 154.204: Revisions_Housekeeping to be effective 2/1/2015.

Filed Date: 12/22/14.

Accession Number: 20141222-5139.

Comments Due: 5 p.m. ET 1/5/15.

Docket Numbers: RP15-275-000.

Applicants: Bluewater Gas Storage, LLC.

Description: § 4(d) rate filing per 154.204: Housekeeping Tariff Filing to be effective 1/21/2015.

Filed Date: 12/22/14.

Accession Number: 20141222-5222.

Comments Due: 5 p.m. ET 1/5/15.

Docket Numbers: RP15-276-000.

Applicants: MoGas Pipeline LLC.

Description: Compliance filing per 154.203: MoGas Revised Tariff Filing to be effective 2/1/2015.

Filed Date: 12/22/14.

Accession Number: 20141222-5303.

Comments Due: 5 p.m. ET 1/5/15.

Docket Numbers: RP15-277-000.

Applicants: El Paso Natural Gas Company, L.L.C.

Description: § 4(d) rate filing per 154.601: Non-Conforming Agreements Filing (Corona & Mountainair) to be effective 2/1/2015.

Filed Date: 12/22/14.

Accession Number: 20141222-5326.

Comments Due: 5 p.m. ET 1/5/15.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

Filings in Existing Proceedings

Docket Numbers: RP14-822-001.

Applicants: Gulf South Pipeline Company, LP.

Description: Compliance filing per 154.203: Compliance filing in Docket No. RP14-822 to be effective 1/1/2015.

Filed Date: 12/22/14.

Accession Number: 20141222-5070.

Comments Due: 5 p.m. ET 1/5/15.

Docket Numbers: RP14-823-002.

Applicants: Gulf South Pipeline Company, LP.

Description: Compliance filing per 154.203: Compliance Filing in Docket No. RP14-823-000 to be effective 1/1/2015.

Filed Date: 12/22/14.

Accession Number: 20141222-5059.

Comments Due: 5 p.m. ET 1/5/15.

Docket Numbers: RP15-133-001.

Applicants: Wyoming Interstate Company, L.L.C.

Description: Compliance filing per 154.203: Non-Conforming Agreement Compliance (Chesapeake) to be effective 12/1/2014.

Filed Date: 12/22/14.

Accession Number: 20141222-5305.

Comments Due: 5 p.m. ET 1/5/15.

Docket Numbers: RP15-182-001.

Applicants: Gulf States Transmission LLC.

Description: Compliance filing per 154.203: Metadata Filing to be effective 12/19/2014.

Filed Date: 12/22/14.

Accession Number: 20141222-5259.

Comments Due: 5 p.m. ET 1/5/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 23, 2014.
Nathaniel J. Davis, Sr.,
Deputy Secretary.

[FR Doc. 2014-30625 Filed 12-30-14; 8:45 am]

BILLING CODE P